DEPARTMENT OF HEALTH AND HUMAN SERVICES

Centers for Disease Control and Prevention

Advisory Committee on Immunization Practices: Meeting

In accordance with section 10(a)(2) of the Federal Advisory Committee Act (Pub. L. 92-463), the Centers for Disease Control and Prevention (CDC) announces the following committee meeting:

Name: Advisory Committee on Immunization Practices (ACIP).

Times and Dates: 8:30 a.m.-6:45 p.m., June 20, 2001.

8 a.m.-5:15 p.m., June 21, 2001.

Place: Atlanta Marriott Century Center, 2000 Century

Boulevard, N.E., Atlanta, Georgia 30345-3377.

Status: Open to the public, limited only by the space available.

Purpose: The Committee is charged with advising the Director, CDC, on the appropriate uses of immunizing agents. In addition, under 42 U.S.C. 1396s, the Committee is mandated to establish and periodically review and, as appropriate, revise the list of vaccines for administration to vaccine-eligible children through the Vaccines for Children (VFC) program, along with schedules regarding the appropriate periodicity, dosage, and contraindications applicable to the vaccines.

Matters to be Discussed: The agenda will include a discussion on vaccine safety issues for yellow fever vaccine: Is a yellow fever vaccine booster needed every 10 years; adult high-risk hepatitis B immunization; current epidemiology of HBV infection in the US; status of immunization of high risk persons in STD clinics, prisons, and non-traditional settings; update on tetanus toxoid vaccine shortage; what should be CDC's role if the influenza vaccine supply remains unclear for the 2001-2002 season; summary of the live-attenuated influenza vaccine working group meeting; vaccine safety updates: the Brighton collaboration, Institute of Medicine Report on measles, mumps and rubella vaccine and autism; update on thimerosal; update from the National Center for Infectious Diseases; update from the National Immunization Program; update from the Food and Drug Administration; update from the National Institutes of Health; update from the Vaccine Injury Compensation Program; update from the National Vaccine Program; final decision on general recommendations for immunization; discontinuation of human rabies vaccine for intradermal pre-exposure use; update on current phase III HIV vaccine efficacy trials; update on risk of meningococcal disease among microbiology laboratory workers; use of economic evaluation for setting health policy; recommended childhood immunization schedule, 2002; and should there be an immunization schedule for adult immunization.

Agenda items are subject to change as priorities dictate.

For Further Information Contact: Gloria A. Kovach, Program Analyst, Epidemiology and Surveillance Division, National Immunization Program, CDC, 1600 Clifton Road, NE, m/s E61, Atlanta, Georgia 30333. Telephone 404/639-8096.

The Director, Management Analysis and Services office has been delegated the authority to sign Federal Register notices pertaining to announcements of meetings and other committee management activities for both the Centers for Disease Control and Prevention and the Agency for Toxic Substances and Disease Registry.

Dated: May 21, 2001.
Carolyn J. Russell,
Director, Management Analysis and Services Office, Centers for Disease Control and Prevention.

[FR Doc. 01-13238 Filed 5-24-01; 8:45 am]

BILLING CODE 4163-18-P